DEPARTMENT OF DEFENSE

Department of the Air Force

Revised Notice of Intent To Prepare an Environmental Impact Statement for Beddown of Training F-35A Aircraft

AGENCY: Air Education and Training and Air National Guard, United States Air Force.

ACTION: Notice of Intent.

SUMMARY: The United States Air Force published a Notice of Intent to prepare an EIS in the Federal Register (Vol 74, Bi, 249, page 69080) on Dec 28, 2009. The phone number that was listed for the point of contact was entered incorrectly. This revised Notice of Intent has been prepared to notify the public of the correct phone number to be used for gaining further information.

FOR FURTHER INFORMATION CONTACT: Mr. David Martin, HQ ACC/A7PP, 266 F Street West, Randolph AFB, TX 78150-4319, telephone 210-652-1961.

Bao-Anh Trinh,
Air Force Federal Register Liaison Officer.

[FR Doc. 2010-2057 Filed 1-29-10; 8:45 am]

BILLING CODE 5001-05-P